NATIONAL AERONAUTICS AND SPACE ADMINISTRATION

[Notice (04-067)]

Government-Owned Inventions, Available for Licensing

AGENCY: National Aeronautics and Space Administration.

ACTION: Notice of availability of inventions for licensing.

SUMMARY: The inventions listed below are assigned to the National Aeronautics and Space Administration, have been filed in the United States Patent and Trademark office, and are available for licensing.

DATES: May 18, 2004.

FOR FURTHER INFORMATION CONTACT: Randy Heald, Patent Counsel, Kennedy Space Center, Mail Code CC-A, Kennedy Space Center, FL 32899; telephone (321) 867-7214; fax (321) 867-1817.

NASA Case No. KSC-12278: Image Edge Extraction Via Fuzzy Reasoning;

NASA Case No. KSC-12490: Optimal Binarization Of Gray-Scaled Digital Images Via Fuzzy Reasoning;

NASA Case No. KSC-12505: Method And System For Measuring Feature Dimensions In Images Using Reference Marks.

Dated: May 12, 2004.
Keith T. Sefton,
Chief of Staff, Office of the General Counsel.

[FR Doc. 04-11175 Filed 5-17-04; 8:45 am]

BILLING CODE 7510-01-P